DEPARTMENT OF ENERGY

Federal Energy Regulatory Commission

[Docket No. CP04-394-000]

Dominion Transmission, Inc.; Notice of Application

August 17, 2004.

Take notice that on August 10, 2004, Dominion Transmission, Inc. (DTI), 120 Tredegar Street, Richmond, Virginia 23219, filed in Docket No. CP04-394-000 an application pursuant to section 7(b) of the Natural Gas Act (NGA) for permission and approval to abandon a storage/injection well in the Bridgeport Storage Complex located in Harrison County, West Virginia, all as more fully set forth in the application.

This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659.

Any questions concerning this request may be directed to Anne E. Bomar, Managing Director, Transmission, Rates and Regulation, 120 Tredegar Street, Richmond, Virginia 23219, or call (804) 819-2134.

Specifically, DTI proposes to abandon Well No. 5111 because in February 2002, DTI states that it determined to stop using Well No. 5111 for storage injection/withdrawal purposes because of economic development of the properties in the immediate vicinity of the well. To that end, DTI states that it placed a plug in the well at the time; however, DTI further states that it has determined that the plug was inadvertently set below the perforations and the well was unintentionally shut in. Consequently, DTI avers that Well No. 5111 cannot be restored to use as a storage injection/withdrawal well.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Comments, protests and interventions may be filed electronically via the Internet in lieu of paper. See 18 CFR 385.2001(a)(1)(iii) and the instructions on the Commission's Web site under the “e-filing” link. The Commission strongly encourages electronic filings.

If the Commission decides to set the application for a formal hearing before an Administrative Law Judge, the Commission will issue another notice describing that process. At the end of the Commission's review process, a final Commission order approving or denying a certificate will be issued.

Comment Date: September 7, 2004.

Linda Mitry,
Acting Secretary.

[FR Doc. E4-1898 Filed 8-24-04; 8:45 am]

BILLING CODE 6717-01-P